DEPARTMENT OF COMMERCE

National Oceanic and Atmospheric Administration

50 CFR Part 622

[I.D. 050405E]

Fisheries of the Caribbean, Gulf of Mexico, and South Atlantic; Reef Fish Fishery of the Gulf of Mexico; Red Snapper

AGENCY: National Marine Fisheries Service (NMFS), National Oceanic and Atmospheric Administration (NOAA), Commerce.

ACTION: Receipt of petition for emergency regulations or interim measures; request for comments.

SUMMARY: NOAA announces receipt of a petition for emergency regulations or interim measures, filed by The Coastal Conservation Association (CCA) under authority of the Magnuson-Stevens Fishery Conservation and Management Act and the Administrative Procedure Act. CCA has petitioned the U.S. Department of Commerce to promulgate emergency regulations or interim measures to address overfishing of red snapper in the Gulf of Mexico primarily by further reducing bycatch of juvenile red snapper in the Gulf shrimp fishery. NMFS is soliciting public comment on this petition to help determine whether NMFS should proceed with the development of regulations suggested by the petitioner.

DATES: Comments will be accepted through 5 p.m. eastern time July 11, 2005.

ADDRESSES: You may submit comments on this petition for rulemaking, including its objectives, the need for such regulation, alternative approaches, and any other comments by any of the following methods:

• E-mail: RSPetition@noaa.gov. Include in the subject line the following document identifier: RSPetition.

• Federal e-Rulemaking Portal: http://www.regulations.gov. Follow the instructions for submitting comments.

• Mail: Phil Steele, Southeast Regional Office, NMFS, 263 13th Avenue South, St. Petersburg, FL 33701.

• Fax: 727-824-5308; Attention: Phil Steele.

Copies of the petition are available from NMFS at the address above.

FOR FURTHER INFORMATION CONTACT: Phil Steele, telephone 727-551-5784, fax 727-824-5308, e-mail Phil.steele@noaa.gov.

SUPPLEMENTARY INFORMATION: The petition filed by CCA states the red snapper stock in the Gulf of Mexico is overfished and undergoing overfishing. Although the petition acknowledges the directed red snapper commercial and recreational sectors share responsibility for rebuilding the stock, the petition asserts failure of bycatch reduction devices (BRDs), required in the Gulf shrimp fishery to meet established bycatch reduction standards, makes recovery of the Gulf red snapper fishery unlikely and ensures years of continued overfishing of red snapper. The petition seeks emergency regulations or interim measures primarily to stop the overfishing resulting from excessive bycatch of juvenile red snapper in the Gulf shrimp fishery.

The CCA petition states that the prevention of overfishing and recovery of the red snapper stock is predicated on at least a 44-percent reduction in bycatch of juvenile red snapper by the Gulf shrimp fishery. Further, because recent research indicates current BRD use, in practice, yields only a 12-percent bycatch reduction, the existing plan for preventing overfishing and rebuilding the red snapper stock must be declared a failure. The petition seeks implementation of emergency regulations or interim measures that would result in bycatch reduction sufficient to allow the red snapper stock to rebuild within the time period established in the Fishery Management Plan for Reef Fish Resources of the Gulf of Mexico. The petition states that such measures should include strict bycatch quotas tracked by observer data, bag limits, TAC restrictions, time and area closures or restrictions, improved BRDs, season limitations, seasonal closures, and other reduction measures. In addition, a firm target for bycatch reduction of between 60 percent and 80 percent of historic levels should be set, with a time line established that achieves that target within the shortest time possible. The petition also proposes a mandated effort reduction program for the Gulf shrimp fleet. The petition concludes that the directed recreational and commercial red snapper sectors have already adopted many of the measures necessary to rebuild the stock.

NMFS is soliciting public comment on this petition. Comments received by 5 p.m. eastern time July 11, 2005 will be considered by NMFS in determining whether to proceed with the development of regulations suggested by the petition. Upon determining whether to open the rulemaking suggested by the petition, the Assistant Administrator for Fisheries, NOAA, will publish a notice of the agency's decision or action in the Federal Register.

Authority: 16 U.S.C. 1801 et seq.

Dated: May 9, 2005.
Alan D. Risenhoover
Acting Director, Office of Sustainable Fisheries, National Marine Fisheries Service.

[FR Doc. 05-9517 Filed 5-11-05; 8:45 am]

BILLING CODE 3510-22-S